DEPARTMENT OF AGRICULTURE

Forest Service

West Gold Project, Idaho Panhandle National Forests, Bonner County, Idaho

AGENCY: Forest Service, USDA.

ACTION: Notice of Intent to Prepare an Environmental Impact Statement.

SUMMARY: The USDA Forest Service will prepare an environmental impact statement (EIS) to document and disclose the potential environmental effects of proposed activities within the West Gold watershed in the Sandpoint Ranger District, Idaho Panhandle National Forests. The watershed is located about 25 miles south of Sandpoint, Idaho, near the town of Lakeview.

The proposal was designed using science from broad scale assessments including the Interior Columbia Basin Ecosystem Management Project. The proposal is intended to improve the health and productivity of terrestrial and aquatic habitats by: (1) Restoring desired forest structures, habitats, and species composition where they are decreasing and where root disease occurs, (2) restoring fire as an ecological process, (3) reducing the level of forest fuels and the risk of catastrophic wildfire; (4) reducing existing and potential sediment risks and improving aquatic habitat, and (5) providing public access and managing motorized recreation to protect resource values such as wildlife and water.

Activities would include thinning overcrowded stands of trees, cutting stands dead or dying from insects and root disease and replanting them with longer lived seral species; burning to reduce fuels, improve growing conditions, and improve forage for wildlife; placing woody debris in stream segments where needed, improving drainage structures and the design of existing roads; decommissioning or recontouring unneeded road segments; and redesigning gates to allow limited, dry season, off-road vehicle use on some existing roads.

The Sandpoint Ranger District of the Idaho Panhandle National Forests in Bonner County, Idaho will administer these activities. The EIS will tier to the Idaho Panhandle National Forests Forest Plan (September 1987).

DATES: Comments should be postmarked on or before August 16, 2000. Please include your name and address and the name of the project you are commenting on.

ADDRESSES: Submit written comments and suggestions on the proposed management activities or request to be placed on the project mailing list by writing to: West Gold Project, Attn: Judy York Sandpoint Ranger District, 1500 Hwy 2, Suite 110, Sandpoint, ID 83864.

FOR FURTHER INFORMATION CONTACT: Judy York, Project Team Leader, Sandpoint Ranger District, 208-265-6665.

Comments received in response to this solicitation, including names and addresses of those who comment, will be considered part of the public record on this proposed action and will be available for public inspection. Comments submitted anonymously will be accepted and considered; however, those who submit anonymous comments will not have standing to appeal the subsequent decision under 36 CFR Parts 215 or 217, Additionally, pursuant to 7 CFR 1.27(D), any person may request the agency to withhold a submission from the public record by showing how the Freedom of Information Act (FOIA) permits such confidentiality. For persons requesting such confidentiality, it may be granted in only very limited circumstances, such as to protect trade secrets. The Forest Service will inform the requester of the agency's decision regarding the request for confidentiality, and where the request is denied, the agency will return the submission and notify the requester that the comments may be resubmitted with or without name and address within 10 days.

SUPPLEMENTARY INFORMATION: The legal description for the project area includes all or portions of sections 13, 14, 23, 24, 25, 26, 35, and 36 in Township 53 North; Range 2 West and sections 8, 9, 10, 16, 17, 20, 21, and 29 in Township 53 North, Ranger 1 West. This project was initially presented in a letter to the public in June of 1997, soliciting comments on a proposal to be analyzed in an environmental analysis. An update letter was sent in October of 1998 describing public and Forest Service issues identified and alternatives developed by the interdisciplinary team at that time. Key issues identified were the effects of logging and road construction on the watershed, aquatic habitat, fisheries, wildlife, and noxious weed spread, and how much motorized access should occur on existing roads.

A new proposal has been developed and the Forest Service is now preparing an environmental impact statement. In the new proposal, treatment of vegetation would occur on about 1,300 acres of a 4,500-acre project area. Cutting techniques would include thinning to reduce competition and increase tree growth within stands. Irregular shelterwood, seed tree with reserves, final removal with reserves, and rehabilitation would be used to improve forest health and promote longer-lived seral species in areas of root disease and insect infestations. Prescribed fire would be used to reduce fuels and prepare some sites for planting. There would be approximately 3 miles of road construction for short-term treatment access, and 15 miles of existing road reconstruction (most of which includes road reconditioning) to reduce potential sediment risk to the watershed. Of the 3 miles of road construction, all except ⅓ of a mile would be fully recontoured upon completion of project activities. An additional 2 miles of existing road would be fully recontoured. Logs and other woody debris would be placed in headwater areas where needed, and in other areas where lacking.

Two periods are specifically designated for comments on this analysis: (1) During the scoping period which is 30 days from the date of this notice in the Federal Register and (2) during the draft EIS comment period. The mailing list for this project will include those individuals who have previously expressed interest in this project as well as adjacent landowners and those responding to this NOI or to the Idaho Panhandle National Forests Quarterly Schedule of proposed Actions. In addition, the public is encouraged to visit with Forest Service officials during the analysis and prior to the decision. The forest Service will continue to seek information, comments, and assistance from Federal, Tribal, State, and local agencies and other individuals or organizations that may be interested in or affected by the proposed actions. The United States Fish and Wildlife Service will be consulted concerning any effects to threatened and endangered species. The agency invites written comments and suggestions on this action, particularly in terms of identification of issues and alternative development.

Comments from the public and other agencies will be used in preparation of the Draft EIS to identify potential issues and concerns, potential alternatives to the proposed action and to promote communications with members of the public or other agencies.

The draft environmental impact statement (DEIS) is expected to be filed with the Environmental Protection Agency (EPA) and made available for public review in September of 2000. The final environmental impact statement is expected to be completed in November or December of 2000.

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts and agency to the reviewer's position and contentions. Vermont Yankee Nuclear Power Corp. v. NRDC, 435 U.S. 519, 533 (1978). Also, environmental objections that could be raised at the draft environmental statement stage but that are not raised until after completion of the final environmental statement may be waived or dismissed by the courts. City of Angoon v. Hodel, 803 F 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues related to the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The United States Department of Agriculture (USDA) prohibits discrimination in its programs on the basis of race, color, national origin, sex, religion, age, disability, political beliefs, and marital or familial status. (Not all prohibited bases apply to all programs.) Persons with disabilities who require alternative means of communication of program information (braille, large print, audiotape, etc.) should contact USDA's TARGET Center at (202) 720-2600 (voice and TDD). To file a complaint, write the Secretary of Agriculture, U.S. Department of Agriculture, Washington, DC 20250, or call 1-800-245-6340 (voice) or (202) 720-1127 (TDD). USDA is an equal employment opportunity employer.

The Idaho Panhandle National Forests Supervisor is the responsible official who will make the decision on this project. The decision will be made after considering comments and responses, environmental consequences discussed in the Final EIS, and applicable laws, regulations and policies. The decision and supporting reasons will be documented in a Record of Decision upon release of the Final EIS.

Dated: June 30, 2000.
David J. Wright,
Forest Supervisor, Idaho Panhandle National Forests.

[FR Doc. 00-17946 Filed 7-14-00; 8:45 am]

BILLING CODE 3410-11-M